DEPARTMENT OF HOUSING AND URBAN DEVELOPMENT

[Docket No. FR-5858-N-01]

Establishment of the Housing Counseling Federal Advisory Committee: Solicitation of Appointment Nominations

AGENCY: Office of the Assistant Secretary for Housing—Federal Housing Commissioner, HUD.

ACTION: Notice.

SUMMARY: The Department of Housing and Urban Development announces the establishment of the Housing Counseling Federal Advisory Committee, a federal advisory committee established pursuant to the Dodd-Frank Wall Street Reform and Consumer Protection Act and the Federal Advisory Committee Act, and invites the public to nominate individuals for one-year, two-year and three-year term appointments.

DATES: Please submit applications as soon as possible, but no later than May 14, 2015.

Submission Address: Nominations must be in writing and be submitted to: Marjorie George, Senior Housing Program Officer, U.S. Department of Housing and Urban Development, Office of Housing Counseling, Office of Outreach and Capacity Building, 200 Jefferson Avenue, Suite 300, Memphis, TN 38103; or by email to marjorie.a.george@hud.gov.

FOR FURTHER INFORMATION CONTACT: Marjorie George, Senior Housing Program Officer, Office of Housing Counseling, U.S. Department of Housing and Urban Development, 200 Jefferson Avenue, Suite 300, Memphis, TN 38103; telephone number 901-544-4228 (this is not a toll-free number); email marjorie.a.george@hud.gov. For hearing and speech-impaired persons, this number may be accessed via TTY by calling the Federal Relay Service at 1-800-877-8339.

SUPPLEMENTARY INFORMATION:

I. Background and Authority

Subtitle D of title XIV of the Dodd-Frank Wall Street Reform and Consumer Protection Act (Pub. L. 111-203, 124 Stat. 1376 (July 21, 2010)) (Dodd-Frank Act) mandates that the Secretary shall appoint an advisory committee to provide advice to the Office of Housing Counseling (OHC). The value of the Housing Counseling Federal Advisory Committee (HCFAC) will be to advise the OHC to meet its mission to provide individuals and families with the knowledge they need to obtain, sustain, and improve their housing through a strong national network of HUD-approved housing counseling agencies and HUD-certified counselors. The HCFAC, however, shall have no role in reviewing or awarding of OHC housing counseling grants and procurement contracts.

The HCFAC shall consist of not more than 12 individuals. The membership will equally represent the mortgage and real estate industry, consumers and HUD-approved housing counseling agencies. Each member shall be appointed in his or her individual capacity for a term of 3 years and may be reappointed at the discretion of the Secretary. Except that of the 12 members first appointed to the HCFAC, 4 shall be appointed for an initial term of 1 year and 4 shall be appointed for a term of 2 years.

The HCFAC is subject to the requirements of the Federal Advisory Committee Act (5 U.S.C. Appendix), and Presidential Memorandum “Final Guidance on Appointments of Lobbyists to Federal Boards and Commissions,” dated June 18, 2010, along with any relevant guidance published in the Federal Register or otherwise issued by the Office of Management and Budget (OMB).¹

¹ See https://www.whitehouse.gov/the-press-office/presidential-memorandum-lobbyists-agency-boards-and-commissions (“Lobbyist on Agency Boards and Commissions”); see also 76 FR 61756 (“Final Guidance on Appointments of Lobbyists to Federal Boards and Commissions”); and 79 FR 47482 (“Revised Guidance on Appointment of Lobbyists to Federal Advisory Committees, Boards, and Commissions”).

.

II. Selection and Meetings

After all applications have been reviewed, HUD will publish a notice in the Federal Register announcing the appointment of HCFAC members and the first meeting of the HCFAC. Selection of members will be made by the Secretary and will be based on the candidate's qualifications to contribute to the accomplishment of the HCFAC's objectives. HCFAC selection will be made on the basis of factors such as expertise and diversity of viewpoints that are necessary to effectively address the matters before the HCFAC. Membership on the Committee is personal to the appointee and committee members serve at the discretion of the Secretary for a 3-year term, except the first appointed members will consist of at a minimum 4 appointees that serve for a 2-year term and 4 appointees that serve for a 1-year term.

The estimated number of meetings anticipated within a fiscal year is 2. Additional meetings may be held as needed to render advice to the Deputy Assistant Secretary for the Office of Housing Counseling. All meetings will be announced by notice in the Federal Register. The meetings may use electronic communication technologies for attendance. Members of the HCFAC shall serve without pay but shall receive travel expenses including per diem in lieu of subsistence as authorized by 5 U.S.C. 5703. Regular attendance is essential to the effective operation of the HCFAC.

III. Application for the Housing Counseling Federal Advisory Committee

HUD is seeking applications for representatives from the mortgage and real estate industry, including consumers and HUD-approved housing counseling agencies. Applicants must be U.S. citizens, and cannot be employees of the U.S. Government. All applicants will be serving in their “individual capacity” and not in a “representative capacity,” therefore, no Federally-registered lobbyists may serve on the HCFAC.² Individual capacity, as clarified by OMB, refers to individuals who are appointed to committees to exercise their own individual best judgment on behalf of the government, such as when they are designated as Special Government Employees as defined in 18 U.S.C. 202.³

² See 79 FR 47482 (“Revised Guidance on Appointment of Lobbyists to Federal Advisory Committees, Boards, and Commissions”) (clarifying that federally registered lobbyists may not serve on an advisory committee, board, or Commission in an “individual capacity.”).

³ See 79 FR 47482.

Nominations to the HCFAC must be submitted on the application available on the Office of Housing Counseling's Web site at: http://portal.hud.gov/hudportal/HUD?src=/program_offices/housing/sfh/hcc. Individuals may nominate themselves. Each nominee will be required to include the following information:

• Name, title, and organization of the nominee and a description of the organization, sector or other interest of the nominee;

• Nominee's mailing address, email address, and telephone number;

• A statement summarizing the nominee's qualifications (including unique experiences, skills and knowledge you will bring to the HCFAC) and reasons why the nominee should be appointed to the HCFAC;

• A statement confirming that the nominee is not a registered federal lobbyist; and

• A statement agreeing to submit to any pre-appointment screenings HUD might require of Special Government Employees, as defined in 18 U.S.C. 202.

Applications should be submitted to Marjorie George, Senior Housing Program Officer, U. S. Department of Housing and Urban Development, Office of Housing Counseling, Office of Outreach and Capacity Building, 200 Jefferson Avenue, Suite 300, Memphis, TN 38103. All deliveries should be addressed to Marjorie George at the above address. Applications submitted via email should be addressed to: marjorie.a.george@hud.gov. All applications must be received no later than May 14, 2015.

HCFAC members will be required to adhere to the conflict of interest rules applicable to Special Government Employees as such employees are defined in 18 U.S.C. Section 202(a). The rules include relevant provisions in 18 U.S.C. related to criminal activity, Standards of Ethical Conduct for Employees of the Executive Branch (5 CFR part 2635), and Executive Order 12674 (as modified by Executive Order 12731). Therefore, applicants will be required to submit to pre-appointment screenings relating to identity of interest and financial interests that HUD might require as shown above. If selected, HCFAC members will also be asked to complete form OGE Form 450 (Confidential Financial Disclosure Report).

Please note this Notice is not intended to be the exclusive method by which HUD will solicit nominations and expressions of interest to identify qualified candidates; however, all candidates for membership on the HCFAC will be subject to the same evaluation criteria.

Dated: April 8, 2015.
Genger Charles,
General Deputy Assistant, Secretary for Housing.

[FR Doc. 2015-08550 Filed 4-13-15; 8:45 am]

BILLING CODE 4210-67-P